DEPARTMENT OF ENERGY

Western Area Power Administration

Pacific Northwest-Pacific Southwest Intertie Project—Rate Order No. WAPA-130

AGENCY: Western Area Power Administration, DOE.

ACTION: Notice of Proposed Transmission Service Rates.

SUMMARY: The Western Area Power Administration (Western) is proposing adjustments to the Pacific Northwest-Pacific Southwest Intertie Project (Intertie) rates for firm transmission service on the 230/345-kilovolt (kV) transmission system, firm transmission service on the 500-kV transmission system, and nonfirm transmission service on the 230/345/500-kV transmission system. The existing rates, under Rate Schedules INT-FT2, INT-FT3, and INT-NFT2, expire December 31, 2006. The proposed rates will provide sufficient revenue to pay all annual costs, including interest expense, and repay required investment within the allowable period. Western will prepare a brochure that provides detailed information on the rates to all interested parties. Western expects the proposed rates to go into effect on January 1, 2007, and remain in effect through December 31, 2011. Publication of this Federal Register notice begins the formal process for the proposed rates.

DATES: The consultation and comment period begins today and will end October 10, 2006. Western will present a detailed explanation of the proposed rates at a public information forum on August 17, 2006, at 10 a.m. MST in Phoenix, AZ. Western will accept oral and written comments at a public comment forum on August 24, 2006, at 10 a.m. MST in Phoenix, AZ. Western will accept written comments any time during the consultation and comment period.

ADDRESSES: The public information forum and public comment forum will be held at the Desert Southwest Region Customer Service Office, 615 South 43rd Avenue, Phoenix, AZ, on the dates cited above. Send written comments to Mr. J. Tyler Carlson, Regional Manager, Desert Southwest Region, Western Area Power Administration, P.O. Box 6457, Phoenix, AZ 85005-6457, e-mail carlson@wapa.gov. Written comments may also be faxed to (602) 605-2490, attention: Jack Murray. Western will post information about the rate process on its Web site at http://www.wapa.gov/dsw/pwrmkt/Intertie/RateAdjust.htm. Western will post official comments received via letter, fax, and e-mail to its Web site after the close of the comment period. Western must receive written comments by the end of the consultation and comment period to ensure they are considered in Western's decision process.

As access to Western facilities is controlled, any U.S. citizen wishing to attend any meeting held at Western must present an official form of picture identification, such as a U.S. driver's license, U.S. passport, U.S. Government ID, or U.S. Military ID, at the time of the meeting. Foreign nationals should contact Western at least 45 days in advance of the meeting to obtain the necessary form for admittance to Western.

FOR FURTHER INFORMATION CONTACT: Mr. Jack Murray, Rates Team Lead, Desert Southwest Region, Western Area Power Administration, P.O. Box 6457, Phoenix, AZ 85005-6457; (602) 605-2442, e-mail jmurray@wapa.gov.

SUPPLEMENTARY INFORMATION: The Deputy Secretary of Energy approved Rate Schedules INT-FT2 and INT-NFT2 on January 31, 1996 (Rate Order No. WAPA-71, 61 FR 4651, February 7, 1996), and the Federal Energy Regulatory Commission (Commission) confirmed and approved the rate schedules on February 12, 1996, under FERC Docket No. EF96-5191-000. Rate Schedules INT-FT2 and INT-NFT2 became effective on February 1, 1996, for a 53-month period ending September 30, 2000. These rate schedules were extended through December 31, 2003, with approval of Rate Order No. WAPA-91 by the Deputy Secretary of Energy on August 15, 2000. These rate schedules were extended again through December 31, 2006, with approval of Rate Order No. WAPA-108 by the Deputy Secretary of Energy on October 27, 2003.

The Deputy Secretary of Energy approved Rate Schedule INT-FT3 on January 28, 1999 (Rate Order No. WAPA-76, 64 FR 6344, February 9, 1999), and the Commission confirmed and approved the rate schedule on June 22, 1999, under FERC Docket No. EF99-5191-000. Rate Schedule INT-FT3 became effective on January 1, 1999, for a 5-year period ending December 31, 2003. This rate schedule was extended through December 31, 2006, with approval of Rate Order No. WAPA-108 by the Deputy Secretary of Energy on October 27, 2003.

Under Rate Schedule INT-FT2, the existing rate for Long-Term Firm and Short-Term Firm Point-to-Point 500-kV Transmission Service is $17.23 per kilowattyear (kWyear). The proposed rate for Long-Term Firm and Short-Term Firm Point-to-Point 500-kV Transmission Service is $21.96 per kWyear. Under Rate Schedule INT-FT3, the existing rate for Long-Term Firm and Short-Term Firm Point-to-Point 230/345-kV Transmission Service is $12.00 per kWyear. The proposed rate for Long-Term Firm and Short-Term Firm Point-to-Point 230/345-kV Transmission Service is $15.36 per kWyear. Under Rate Schedule INT-NFT3, the existing rate for Nonfirm Point-to-Point 230/345/500-kV Transmission Service is 2.00 mills per kilowatthour (kWh). The proposed rate for Nonfirm Point-to-Point 230/345/500-kV Transmission Service is 2.50 mills per kWh. The following table compares the existing and proposed rates for Intertie transmission service.

Comparison of Existing and Proposed Transmission Service Rates
Transmission service | Existing rates | Proposed rates | Percent change
230/345-kV Firm | $12.00 kWyear | $15.36 kWyear | 28.0
500-kV Firm | $17.23 kWyear | $21.96 kWyear | 27.5
230/345/500-kV Nonfirm | 2.00 mills/kWh | 2.50 mills/kWh | 25.0

The proposed rates are expected to become effective January 1, 2007, and remain in effect through December 31, 2011. The proposed rates are designed to recover an annual revenue requirement that includes operation and maintenance, purchase of transmission capacity, interest, other expenses, and investment repayment. The rate increase results primarily from increased operation and maintenance costs, interest expense, and repayment of capitalized expenses.

Legal Authority

Since the proposed rates constitute a major adjustment as defined by 10 CFR part 903, Western will hold both a public information forum and a public comment forum. After review of public comments and possible amendments or adjustments, Western will recommend that the Deputy Secretary of Energy approve the proposed rates on an interim basis.

Western is establishing transmission service rates for the Intertie under the Department of Energy Organization Act (42 U.S.C. 7152); the Reclamation Act of 1902 (ch. 1093, 32 Stat. 388), as amended and supplemented by subsequent laws, particularly section 9(c) of the Reclamation Project Act of 1939 (43 U.S.C. 485h(c)); and other acts that specifically apply to the project involved.

By Delegation Order No. 00-037.00, effective December 6, 2001, the Secretary of Energy delegated: (1) The authority to develop power and transmission rates to Western's Administrator; (2) the authority to confirm, approve, and place such rates into effect on an interim basis to the Deputy Secretary of Energy; and (3) the authority to confirm, approve, and place into effect on a final basis, to remand, or to disapprove such rates to the Commission. Existing Department of Energy (DOE) procedures for public participation in power and transmission rate adjustments (10 CFR part 903) were published on September 18, 1985 (50 FR 37835).

Availability of Information

All brochures, studies, comments, letters, memorandums, or other documents that Western initiates or uses to develop the proposed rates are available for inspection and copying at the Desert Southwest Customer Service Regional Office, Western Area Power Administration, located at 615 South 43rd Avenue, Phoenix, AZ. Many of these documents and supporting information are also available on Western's Web site at: http://www.wapa.gov/dsw/pwrmkt/Intertie/RateAdjust.htm.

Regulatory Procedure Requirements

Regulatory Flexibility Analysis

The Regulatory Flexibility Act of 1980 (5 U.S.C. 601, et seq.) requires Federal agencies to perform a regulatory flexibility analysis if a final rule is likely to have a significant economic impact on a substantial number of small entities and there is a legal requirement to issue a general notice of proposed rulemaking. This action does not require a regulatory flexibility analysis since it is a rulemaking of particular applicability involving rates or services applicable to public property.

Environmental Compliance

In compliance with the National Environmental Policy Act of 1969 (NEPA) (42 U.S.C. 4321, et seq.); the Council on Environmental Quality Regulations for implementing NEPA (40 CFR parts 1500-1508); and DOE NEPA Implementing Procedures and Guidelines (10 CFR part 1021), Western has determined this action is categorically excluded from preparing an environmental assessment or an environmental impact statement.

Determination Under Executive Order 12866

Western has an exemption from centralized regulatory review under Executive Order 12866; accordingly, no clearance of this notice by the Office of Management and Budget is required.

Small Business Regulatory Enforcement Fairness Act

Western has determined that this rule is exempt from congressional notification requirements under 5 U.S.C. 801 because the action is a rulemaking of particular applicability relating to rates or services and involves matters of procedure.

Dated: June 28, 2006.
Michael S. Hacskaylo,
Administrator.

[FR Doc. E6-10939 Filed 7-11-06; 8:45 am]

BILLING CODE 6450-01-P